DEPARTMENT OF COMMERCE

International Trade Administration

[A-570-851]

Certain Preserved Mushrooms From the People's Republic of China; Extension of Time Limit for Preliminary Results of Antidumping Duty New Shipper Reviews

AGENCY: Import Administration, International Trade Administration, Department of Commerce.

DATES: Effective Date: March 25, 2011

FOR FURTHER INFORMATION CONTACT: Scott Hoefke or Fred Baker, AD/CVD Operations, Office 7, Import Administration, International Trade Administration, U.S. Department of Commerce, 14th Street and Constitution Avenue, NW., Washington, DC 20230; telephone: (202) 482-4947 or (202) 482-2924, respectively.

SUPPLEMENTARY INFORMATION:

Background

On October 7, 2010, the Department of Commerce (the Department) published in the Federal Register the initiation of two new shipper reviews (NSRs) of the antidumping duty order on certain preserved mushrooms from the People's Republic of China, covering the period of February 1, 2010, to July 31, 2010. See Certain Preserved Mushrooms From the People's Republic of China: Notice of Initiation of Antidumping Duty New Shipper Reviews, 75 FR 62108 (October 7, 2010). The current deadline for the preliminary results of these reviews is March 28, 2011.

Extension of Time Limits for Preliminary Results of Review

Section 751(a)(2)(B)(iv) of the Tariff Act of 1930, as amended (the Act) and 19 CFR 351.214(i)(1), require the Department to complete the preliminary results of a NSR of an antidumping duty order within 180 days after the date on which the review is initiated. However, the Department may extend the deadline for completion of the preliminary results of a NSR to 300 days if it determines the case is extraordinarily complicated. See section 751(a)(2)(B)(iv) of the Act and 19 CFR 351.214 (i)(2).

The Department finds that these NSRs are extraordinarily complicated and, therefore, it requires additional time to complete the preliminary results. Specifically, the Department requires additional time to analyze certain entry documents submitted by Guangxi Hengyong Industrial & Commercial Dev. Ltd. and Zhangzhou Hongda Import & Export Trading Co., Ltd. Accordingly, the Department is extending the time limit for completion of the preliminary results of these NSRs by 120 days (i.e., until July 26, 2011). We intend to issue the final results no later than 90 days after publication of the preliminary results.

This extension is issued and published in accordance with section 751(a)(2)(B)(iv) and 19 CFR 351.214(i)(2).

Dated: March 18, 2011.
Christian Marsh,
Deputy Assistant Secretary for Antidumping and Countervailing Duty Operations.

[FR Doc. 2011-7131 Filed 3-24-11; 8:45 am]

BILLING CODE 3510-DS-P